INTERNATIONAL TRADE COMMISSION

[USITC SE-14-026]

Government in the Sunshine Act Meeting Notice

AGENCY HOLDING THE MEETING: United States International Trade Commission

TIME AND DATE: August 6, 2014 at 11:00 a.m.

PLACE: Room 101, 500 E Street SW., Washington, DC 20436, Telephone: (202) 205-2000

STATUS: Open to the public

MATTERS TO BE CONSIDERED:

1. Agendas for future meetings: none

2. Minutes

3. Ratification List

4. Vote in Inv. Nos. 701-TA-498 and 731-TA-1213 (Final) (Certain Steel Threaded Rod from India). The Commission is currently scheduled to complete and file its determinations and views of the Commission on August 18, 2014.

5. Outstanding action jackets: none

In accordance with Commission policy, subject matter listed above, not disposed of at the scheduled meeting, may be carried over to the agenda of the following meeting.

By order of the Commission.
Issued: July 30, 2014.
Lisa R. Barton,
Secretary to the Commission.

[FR Doc. 2014-18446 Filed 7-31-14; 11:15 am]

BILLING CODE 7020-02-P